DEPARTMENT OF HEALTH AND HUMAN SERVICES

Centers for Disease Control and Prevention

Notice of National Conversation on Public Health and Chemical Exposures Leadership Council Conference Call

Time and Date: 1 p.m.-3 p.m., Friday, January 29, 2010.

Location: Teleconference.

Status: The public is invited to listen to the meeting by phone, see “contact for additional information” below.

Purpose: This is the second meeting of the National Conversation on Public Health and Chemical Exposures Leadership Council. The National Conversation on Public Health and Chemical Exposures is a collaborative initiative through which many organizations and individuals are helping develop an action agenda for strengthening the nation's approach to protecting the public's health from harmful chemical exposures. The Leadership Council provides overall guidance to the National Conversation project and will be responsible for issuing the final action agenda. For additional information on the National Conversation on Public Health and Chemical Exposures, visit this Web site: http://www.atsdr.cdc.gov/nationalconversation/.

Meeting agenda: The call will include discussing (1) Revised project milestones and process elements, (2) revised National Conversation Operating Procedures, (3) the Policies and Practices work group charge, and (4) plans for developing and utilizing a community conversation toolkit on the issue of public health and chemical exposures.

Contact for additional information: If you would like to receive additional information on listening to the meeting by phone, please contact: nationalconversation@cdc.gov or Ben Gerhardstein at 770-488-3646.

Dated: January 19, 2010.
Tanja Popovic,
Chief Science Officer, Centers for Disease Control and Prevention.

[FR Doc. 2010-1571 Filed 1-26-10; 8:45 am]

BILLING CODE 4163-18-P